DEPARTMENT OF DEFENSE

Office of the Secretary

Department of Defense Wage Committee (DoDWC); Notice of Federal Advisory Committee Meetings

AGENCY: Under Secretary of Defense for Personnel and Readiness, Department of Defense (DoD).

ACTION: Notice of closed Federal Advisory Committee meetings.

SUMMARY: The DoD is publishing this notice to announce that the following Federal Advisory Committee meetings of the DoDWC will take place.

DATES:

Tuesday, November 15, 2022 from 10:00 a.m. to 1:00 p.m. and will be closed to the public.

Tuesday, November 29, 2022 from 10:00 a.m. to 11:00 a.m. and will be closed to the public.

Tuesday, December 13, 2022 from 10:00 a.m. to 12:30 p.m. and will be closed to the public.

Tuesday, December 27, 2022 from 10:00 a.m. to 10:30 a.m. and will be closed to the public.

Tuesday, January 10, 2023 from 10:00 a.m. to 12:00 p.m. and will be closed to the public.

Tuesday, January 24, 2023 from 10:00 a.m. to 10:30 a.m. and will be closed to the public.

Tuesday, February 7, 2023 from 10:00 a.m. to 12:30 p.m. and will be closed to the public.

ADDRESSES: The closed meetings will be held by teleconference.

FOR FURTHER INFORMATION CONTACT: Mr. Karl Fendt, (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the Department of Defense and the Designated Federal Officer for the DoDWC, the DoDWC was unable to provide public notification required by 41 CFR 102-3.450 (a) concerning its November 15, 2022 meeting. Accordingly, the Advisory Committee Management Officer for the Department of Defense, pursuant to 41 CFR 102-3.150(b), waives the 15-calendar day notification requirement.

These meetings are being held under the provisions of the Federal Advisory Committee Act (FACA) (5 U.S.C. Appendix), the Government in the Sunshine Act (5 U.S.C. 552b), and 41 CFR 102-3.140 and 102-3.150.

Purpose of the Meeting: The purpose of these meetings is to provide independent advice and recommendations on matters relating to the conduct of wage surveys and the establishment of wage schedules for all appropriated fund and non-appropriated fund areas of blue-collar employees within the Department of Defense.

Agendas

November 15, 2022

Opening Remarks by Chair and Designated Federal Officer (DFO).

Reviewing survey results and/or survey specifications for the following Appropriated Fund areas:

1. Any items needing further clarification or action from the previous agenda.

2. Wage Schedule (Full Scale) for the Los Angeles, California wage area (AC-013).

3. Wage Schedule (Full Scale) for the San Bernardino-Riverside-Ontario, California wage area (AC-016).

4. Wage Schedule (Full Scale) for the Santa Barbara, California wage area (AC-019).

5. Wage Schedule (Full Scale) for the New London, Connecticut wage area (AC-025).

6. Wage Schedule (Full Scale) for the Panama City, Florida wage area (AC-033).

7. Wage Schedule (Full Scale) for the Chicago, Illinois wage area (AC-047).

8. Wage Schedule (Full Scale) for the Las Vegas, Nevada wage area (AC-085).

9. Wage Schedule (Full Scale) for the Portsmouth, New Hampshire wage area (AC-087).

10. Wage Schedule (Full Scale) for the Seattle-Everett-Tacoma, Washington wage area (AC-143).

11. Wage Schedule (Wage Change) for the San Diego, California wage area (AC-017).

12. Wage Schedule (Wage Change) for the San Francisco, California wage area (AC-018).

13. Wage Schedule (Wage Change) for the Pensacola, Florida wage area (AC-034).

14. Wage Schedule (Wage Change) for the Central Illinois wage area (AC-046).

15. Wage Schedule (Wage Change) for the Des Moines, Iowa wage area (AC-054).

16. Wage Schedule (Wage Change) for the Baltimore, Maryland wage area (AC-066).

17. Wage Schedule (Wage Change) for the Buffalo, New York wage area (AC-092).

18. Survey Specifications for the Sacramento, California wage area (AC-014).

19. Survey Specifications for the Stockton, California wage area (AC-020).

20. Survey Specifications for the Miami, Florida wage area (AC-031).

21. Survey Specifications for the Jackson, Mississippi wage area (AC-078).

22. Survey Specifications for the Meridian, Mississippi wage area (AC-079).

23. Survey Specifications for the Cincinnati, Ohio wage area (AC-104).

24. Survey Specifications for the Eastern Tennessee wage area (AC-123).

25. Special Pay—Southwest Power Rate

26. Special Pay—North Central Power Rate

27. Special Pay—Los Angeles, California Special Rates

28. Special Pay—New London, Connecticut Special Rates

29. Special Pay—San Diego, California Special Rates

30. Any items needing further clarification from this agenda may be discussed during future scheduled meetings.

Closing Remarks by Chair.

November 29, 2022:

Opening Remarks by Chair and DFO.

Reviewing survey results and/or survey specifications for the following Nonappropriated Fund areas:

1. Any items needing further clarification or action from the previous agenda.

2. Wage Schedule (Full Scale) for the Maricopa, Arizona wage area (AC-012).

3. Wage Schedule (Full Scale) for the Pima, Arizona wage area (AC-013).

4. Wage Schedule (Full Scale) for the Yuma, Arizona wage area (AC-055).

5. Wage Schedule (Full Scale) for the Kings-Queens, New York wage area (AC-091).

6. Wage Schedule (Wage Change) for the Hampden, Massachusetts wage area (AC-039).

7. Wage Schedule (Wage Change) for the Middlesex, Massachusetts wage area (AC-138).

8. Wage Schedule (Wage Change) for the York, Maine wage area (AC-139).

Reviewing survey results and/or survey specifications for the following Appropriated Fund areas:

9. Survey Specifications for the Fresno, California wage area (AC-012).

10. Survey Specifications for the Louisville, Kentucky wage area (AC-059).

11. Any items needing further clarification from this agenda may be discussed during future scheduled meetings.

Closing Remarks by Chair.

December 13, 2022

Opening Remarks by Chair and DFO.

Reviewing survey results and/or survey specifications for the following Nonappropriated Fund areas:

1. Any items needing further clarification or action from the previous agenda.

2. Survey Specifications for the Richmond, Georgia wage area (AC-035).

3. Survey Specifications for the Houston, Georgia wage area (AC-036).

4. Survey Specifications for the Pulaski, Arkansas wage area (AC-045).

5. Survey Specifications for the Montgomery, Alabama wage area (AC-048).

6. Survey Specifications for the Sedgwick, Kansas wage area (AC-078).

7. Survey Specifications for the Montgomery-Greene, Ohio wage area (AC-166).

Reviewing survey results and/or survey specifications for the following Appropriated Fund areas:

8. Wage Schedule (Full Scale) for the Bloomington-Bedford-Washington, Indiana wage area (AC-048).

9. Wage Schedule (Full Scale) for the Ft. Wayne-Marion, Indiana wage area (AC-049).

10. Wage Schedule (Full Scale) for the Indianapolis, Indiana wage area (AC-050).

11. Wage Schedule (Full Scale) for the Kansas City, Missouri wage area (AC-080).

12. Wage Schedule (Full Scale) for the St. Louis, Missouri wage area (AC-081).

13. Wage Schedule (Full Scale) for the Southern Missouri wage area (AC-082).

14. Wage Schedule (Full Scale) for the Omaha, Nebraska wage area (AC-084).

15. Wage Schedule (Full Scale) for the Dallas-Ft. Worth, Texas wage area (AC-131).

16. Wage Schedule (Wage Change) for the Cocoa Beach-Melbourne, Florida wage area (AC-028).

17. Wage Schedule (Wage Change) for the Davenport-Rock Island-Moline, Iowa wage area (AC-053).

18. Wage Schedule (Wage Change) for the Southwestern Michigan wage area (AC-073).

19. Wage Schedule (Wage Change) for the Philadelphia, Pennsylvania wage area (AC-115).

20. Wage Schedule (Wage Change) for the Eastern South Dakota wage area (AC-121).

21. Special Pay—Omaha, Nebraska Special Rates

22. Special Pay—Philadelphia, Pennsylvania Special Rates

23. Any items needing further clarification from this agenda may be discussed during future scheduled meetings.

Closing Remarks by Chair.

December 27, 2022

Opening Remarks by Chair and DFO.

Reviewing survey results and/or survey specifications for the following Appropriated Fund areas:

1. Any items needing further clarification or action from the previous agenda.

2. Survey Specifications for the Northeastern Arizona wage area (AC-008).

3. Survey Specifications for the Tucson, Arizona wage area (AC-010).

4. Survey Specifications for the Northern New York wage area (AC-095).

5. Survey Specifications for the West Virginia wage area (AC-146).

6. Any items needing further clarification from this agenda may be discussed during future scheduled meetings.

Closing Remarks by Chair.

January 10, 2023

Opening Remarks by Chair and DFO.

Reviewing survey results and/or survey specifications for the following Nonappropriated Fund areas:

1. Any items needing further clarification or action from the previous agenda.

2. Survey Specifications for the McLennan, Texas wage area (AC-022).

3. Survey Specifications for the Alleghany, Pennsylvania wage area (AC-066).

4. Survey Specifications for the Jefferson, New York area (AC-101).

5. Survey Specifications for the Orange, New York wage area (AC-103).

6. Survey Specifications for the Macomb, Michigan wage area (AC-162).

7. Survey Specifications for the Niagara, New York wage area (AC-166).

Reviewing survey results and/or survey specifications for the following Appropriated Fund areas:

8. Wage Schedule (Full Scale) for the New Orleans, Louisiana wage area (AC-061).

9. Wage Schedule (Full Scale) for the Richmond, Virginia area (AC-141).

10. Wage Schedule (Wage Change) for the Wilmington, Delaware wage area (AC-026).

11. Wage Schedule (Wage Change) for the Topeka, Kansas wage area (AC-056).

12. Wage Schedule (Wage Change) for the Wichita, Kansas wage area (AC-057).

13. Wage Schedule (Wage Change) for the Biloxi, Mississippi wage area (AC-076).

14. Wage Schedule (Wage Change) for the Roanoke, Virginia wage area (AC-142).

15. Survey Specifications for the Albuquerque, New Mexico wage area (AC-089).

16. Special Pay—Wilmington, Delaware Special Rates

17. Any items needing further clarification from this agenda may be discussed during future scheduled meetings.

Closing Remarks by Chair.

January 24, 2023

Opening Remarks by Chair and DFO.

Reviewing survey results and/or survey specifications for the following Appropriated Fund areas:

1. Any items needing further clarification or action from the previous agenda.

2. Survey Specifications for the New Haven-Hartford, Connecticut wage area (AC-024).

3. Survey Specifications for the Cleveland, Ohio wage area (AC-105).

4. Survey Specifications for the Texarkana, Texas wage area (AC-136).

5. Any items needing further clarification from this agenda may be discussed during future scheduled meetings.

Closing Remarks by Chair.

February 7, 2023:

Opening Remarks by Chair and DFO.

Reviewing survey results and/or survey specifications for the following Nonappropriated Fund areas:

1. Any items needing further clarification or action from the previous agenda.

2. Wage Schedule (Full Scale) for the Brevard, Florida wage area (AC-061).

3. Wage Schedule (Full Scale) for the Hillsborough, Florida wage area (AC-119).

4. Wage Schedule (Full Scale) for the Miami-Dade, Florida wage area (AC-158).

5. Wage Schedule (Full Scale) for the Duval, Florida wage area (AC-159).

6. Wage Schedule (Full Scale) for the Monroe, Florida wage area (AC-160).

7. Wage Schedule (Wage Change) for the Washoe-Churchill, Nevada wage area (AC-011).

8. Wage Schedule (Wage Change) for the Orange, Florida wage area (AC-062).

9. Wage Schedule (Wage Change) for the Bay, Florida wage area (AC-063).

10. Wage Schedule (Wage Change) for the Escambia, Florida wage area (AC-064).

11. Wage Schedule (Wage Change) for the Okaloosa, Florida wage area (AC-065).

12. Wage Schedule (Wage Change) for the Clark, Nevada wage area (AC-140).

13. Survey Specifications for the Orleans, Louisiana wage area (AC-006).

14. Survey Specifications for the Bell, Texas wage area (AC-028).

15. Survey Specifications for the Curry, New Mexico wage area (AC-030).

16. Survey Specifications for the Tom Green, Texas wage area (AC-032).

17. Survey Specifications for the Cobb, Georgia wage area (AC-034).

18. Survey Specifications for the Columbus, Georgia wage area (AC-067).

Reviewing survey results and/or survey specifications for the following Appropriated Fund areas:

1. Survey Specifications for the Atlanta, Georgia wage area (AC-037).

2. Survey Specifications for the Waco, Texas wage area (AC-137).

3. Any items needing further clarification from this agenda may be discussed during future scheduled meetings.

Closing Remarks by Chair.

Meeting Accessibility: Pursuant to 5 U.S.C. 552b(c)(4), the Department of Defense has determined that the meetings shall be closed to the public. The Under Secretary of Defense for Personnel and Readiness, in consultation with the Department of Defense Office of General Counsel, has determined in writing that each of these meetings is likely to disclose trade secrets and commercial or financial information obtained from a person and privileged or confidential.

Written Statements: Pursuant to section 10(a)(3) of the Federal Advisory Committee Act and 41 CFR 102-3.140, interested persons may submit written statements to the DFO for the DoDWC at any time. Written statements should be submitted to the DFO at the email or mailing address listed in the FOR FURTHER INFORMATION CONTACT section. If statements pertain to a specific topic being discussed at a planned meeting, then these statements must be submitted no later than five (5) business days prior to the meeting in question. Written statements received after this date may not be provided to or considered by the DoDWC until its next meeting. The DFO will review all timely submitted written statements and provide copies to all the committee members before the meeting that is the subject of this notice.

Dated: November 8, 2022.
Aaron T. Siegel,
Alternate OSD Federal Register Liaison Officer, Department of Defense.

[FR Doc. 2022-24722 Filed 11-10-22; 8:45 am]

BILLING CODE 5001-06-P